OFFICE OF MANAGEMENT AND BUDGET

Request for Comments on Information Technology Modernization Initiative

AGENCY: Office of Management and Budget

ACTION: Notice of public comment period.

SUMMARY: The Office of Management and Budget (OMB) is seeking public comment on a draft memorandum titled, “Information Technology Modernization Initiative.”

DATES: The 30-day public comment period on the draft memorandum begins on October 26, 2016 in the Federal Register and will last for 30 days. The public comment period will end on November 25, 2016.

ADDRESSES: Interested parties should provide comments at the following link: https://policy.cio.gov/it-modernization/. The Office of Management and Budget is located at 725 17th Street NW., Washington, DC 20503.

FOR FURTHER INFORMATION CONTACT: Sean Casey at Sean_C_Casey@omb.eop.gov or OFCIO@omb.eop.gov.

SUPPLEMENTARY INFORMATION: The Office of Management and Budget (OMB) is proposing a new policy to modernize the Federal government's aging IT systems. This memorandum would require the CFO-Act agencies to identify systems as candidates for modernization and submit modernization proposals to OMB. Research and agency-submitted analysis indicates that aging legacy systems pose operations risks for the agencies and the government as a whole when these systems cannot adapt to current or expected mission requirements, user needs, or operating environments. This memorandum strives to assist agencies with the costs and risks of modernizing critical systems, and it seeks to promote cost reductions, risk reductions, and improved delivery of services to the American public through modernization of these systems. Authority for this notice is granted under the Clinger-Cohen Act, 40 U.S.C. Subtitle III.

Tony Scott,
U.S. Federal Chief Information Officer.

[FR Doc. 2016-25948 Filed 10-26-16; 8:45 am]

BILLING CODE P